DEPARTMENT OF AGRICULTURE

Food and Nutrition Service

Agency Information Collection Activities, Proposed Collection: Request for Comments on Evaluating the Interview Requirement for Supplemental Nutrition Assistance Program (SNAP) Certification Study

AGENCY: Food and Nutrition Service (FNS), USDA.

ACTION: Notice.

SUMMARY: In accordance with the Paperwork Reduction Act of 1995, this notice invites the general public and other public agencies to comment on this proposed information collection. This is a new information collection for the contract of the study titled “Evaluating the Interview Requirement for SNAP Certification.” The purpose of this collection is to help FNS describe the effects of waiving the interview requirement, including SNAP agency processes and staff experiences with implementing the no-interview demonstration, analyzing the differences in outcomes for SNAP applicants and recipients, and identifying key lessons to inform future policy or implementation.

DATES: Written comments must be received on or before June 3, 2024.

ADDRESSES: Comments may be mailed to Amanda Wyant, Food and Nutrition Service, U.S. Department of Agriculture, 1320 Braddock Place, 5th Floor, Alexandria, VA 22314. Comments may also be submitted via email to Amanda.Wyant@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Amanda Wyant at 703-305-7537.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Evaluating the Interview Requirement for SNAP Certification Study.

Form Number: N/A.

OMB Number: 0584-NEW.

Expiration Date: Not yet determined.

Type of Request: New collection.

Abstract: The Supplemental Nutrition Assistance Program (SNAP) is the foundation of the nation's nutrition assistance safety net and is a core source of support to millions of Americans, particularly during economic downturns. To help States handle increased need and participation amid the health risks of the pandemic, the Food and Nutrition Service (FNS) offered States a range of flexibilities which provided support to States administering the program and clients in the application process, including the option to waive the certification and recertification interview requirement. This allowed States to continue administering SNAP during the public health emergency with minimal client contact. FNS required States that waived the interview requirement to document their experiences processing cases without the interview. However, more rigorous evidence is needed to confidently understand the effects of waiving the interview requirement.

The Evaluating the Interview Requirement for SNAP Certification study will collect information in five States to assess how eliminating interviews affects outcomes, including administrative efficiency, costs, benefit accuracy, and client access. The project will include a randomized control trial (RCT) to analyze the impacts of outcomes between those clients assigned to receive an interview (the regular interview process group) and those assigned to not receive an interview (the no-interview group). The project will also include collection of administrative and quality control data, as well as qualitative information. The qualitative data collection will include virtual site visits and observations, a workflow analysis, and a time-use study. During the site visits, the team will conduct interviews with staff involved with all stages of certification and recertification processes. Site visitors will observe verification calls between eligibility workers and no-interview SNAP applicants to collect information about whether staff carry out policies and procedures as intended. The workflow analysis will involve small group interviews with State and local staff and will support the assessment of the changes required when implementing the no-interview demonstration and the possible challenges. Finally, the study will include a staff time-use survey to determine whether application processing requires more or less time for workers when there is an interview compared to when there is not.

Affected public. Members of the public affected by the data collection include State and local government workers from SNAP agencies in five States, as well as staff at not-for-profit organizations, and individuals who apply for or participate in SNAP. Respondent groups identified include (1) State SNAP directors, (2) State SNAP policy directors, (3) State SNAP field operations managers, (4) State data systems staff, (5) State quality control (QC) staff, (6) local SNAP directors, (7) local SNAP office supervisors, (8) eligibility workers, (9) customer service staff, (10) community based organizations (CBOs) and advocates, and (11) SNAP applicants and participants.

Estimated number of respondents. The total estimated number of unique respondents—which includes everyone contacted for data collection regardless of whether they participate—is 494. This includes up to 65 individuals/households, 409 State and local government staff, and 20 community based organization staff or advocates. The study team will contact 65 individuals/households, out of which 50 SNAP applicants or participants will participate in an observation and 15 SNAP applicants or participants will be considered nonrespondents. The study team will contact 63 State SNAP agency staff, which includes SNAP directors, SNAP policy directors, State SNAP field operations managers, State data systems staff, and State QC staff. The study team will contact 67 local agency directors/supervisors, out of which 20 will be considered nonrespondents. The study team will contact 279 local agency direct service staff, out of which 80 will be considered nonrespondents. Fifteen of the State directors will provide administrative data. The study team will contact 20 community based organizations or advocates for virtual interviews.

Respondents will participate in multiple activities as follows:

• 5 State SNAP directors (one from each State will participate in the interviews and workflow analysis)

• 5 State SNAP policy directors (one from each State will participate in the interviews, document review and workflow analysis)

• 20 State field operations managers (four from each State will participate in the interviews and workflow analysis)

• 15 State data systems staff (three from each State will participate in the interviews, workflow analysis, and administrative data collection)

• 15 Local SNAP directors (three from each State will participate in the interviews and work flow analysis)

• 30 Local SNAP office supervisors (6 from each State will participate in the time-use survey, workflow analysis, and/or the interviews)

• 135 Eligibility workers (27 from each State will participate in the time-use survey, observations, workflow analysis, and/or interviews. Eligibility workers could participate in one or multiple activities in the study. Amongst the 135 eligibility workers, 90 will have participated in the time-use survey, 50 will have participated in the observations, 45 will have participated in the interviews, and 30 will have participated in the workflow analysis)

• 60 customer service staff (12 from each State will participate in the time-use survey, workflow analysis, and/or the interviews. Customer service staff could participate in the time-use survey and the interviews or the interviews and observations or only one of these activities. Amongst the 60 customer service staff, 30 will have participated in the time-use survey, 30 will have participated in the workflow analysis, and 30 will have participated in the interviews)

The 15 State QC staff will participate in the interviews. Before the start of data collection in one non-study State, we will pretest the semi-structured interview guide with one State SNAP director, one State SNAP policy director, one State data system staff, one Local SNAP director, one eligibility worker, and one customer service staff member. We also will pretest the time-use survey with one eligibility worker, one customer service staff, and one Local SNAP office supervisor.

Estimated number of responses per respondent. Across all 494 unique respondents (379 respondents and 115 non-respondents) and 3,159 annual responses, the average number of responses is 6.39.

Estimated total annual responses. 3,159.

Estimated time per response. The time per all respondent/non-respondent group was used to determine the annual frequency estimates. The estimated time per response varies from 0.0835 hours for activities related to reading email reminders for the time-use survey to 24 hours for State data systems staff to provide administrative data. The response time will vary depending on the respondent group, with an average estimated time of 105 minutes (1.75 hours).

Estimated total annual burden on respondents. The total estimated annual burden on respondents is 108,300 minutes (1,805 hours).

BILLING CODE 3410-30-P

Tameka Owens,
Assistant Administrator, Food and Nutrition Service.

[FR Doc. 2024-07164 Filed 4-3-24; 8:45 am]

BILLING CODE 3410-30-C